DEPARTMENT OF COMMERCE

National Oceanic and Atmospheric Administration

[I.D. 031005C]

Magnuson-Stevens Act Provisions; General Provisions for Domestic Fisheries; Application for Exempted Fishing Permits

AGENCY: National Marine Fisheries Service (NMFS), National Oceanic and Atmospheric Administration (NOAA), Commerce.

ACTION: Notice; request for comments.

SUMMARY: The Assistant Regional Administrator for Sustainable Fisheries, Northeast Region, NMFS (Assistant Regional Administrator) has made a preliminary determination that the subject Exempted Fishing Permit (EFP) application contains all of the required information and warrants further consideration. The Assistant Regional Administrator has also made a preliminary determination that the activities authorized under the EFP would be consistent with the goals and objectives of the Northeast (NE) Multispecies Fishery Management Plan (FMP). However, further review and consultation may be necessary before a final determination is made to issue the EFP. Therefore, NMFS announces that the Assistant Regional Administrator proposes to issue an EFP that would allow vessels to conduct fishing operations that are otherwise restricted by the regulations governing the fisheries of the Northeastern United States. The EFP would allow for exemptions from the NE multispecies year-round closure area restrictions and the NE multispecies Gulf of Maine (GOM) and Georges Bank (GB) hook gear restrictions. The applicant proposes to conduct a haddock tagging study to assess the movement of haddock between the GOM and GB stocks, western and eastern GB substocks, and across closure area boundaries. The EFP would allow these exemptions for up to 20 commercial vessels for a combined total of 30 trips. All experimental work would be monitored by Cape Cod Commercial Hook Fishermen's Association (CCCHFA) personnel. Regulations under the Magnuson-Stevens Fishery Conservation and Management Act require publication of this notification to provide interested parties the opportunity to comment on applications for proposed EFPs.

DATES: Written comments must be received on or before March 31, 2005.

ADDRESSES: Written comments on this notice may be submitted by e-mail to: DA736@noaa.gov. Include in the subject line the following document identifier: “Comments on CCCHFA EFP Proposal for Haddock Tagging Study (DA-736).”

Written comments may also be mailed to: Patricia A. Kurkul, Regional Administrator, NMFS, Northeast Regional Office, 1 Blackburn Drive, Gloucester, MA 01930. Mark the outside of the envelope “Comments on CCCHFA EFP Proposal for Haddock Tagging Study (DA-736).”

Comments may also be sent via fax to: (978) 281-9135.

Copies of the Environmental Assessment (EA) are available from the NE Regional Office at the mailing address specified above.

FOR FURTHER INFORMATION CONTACT: Peter Cooper, Fishery Management Specialist, phone: 978-281-9122, fax: 978-281-9135.

SUPPLEMENTARY INFORMATION: An application for an EFP was submitted by CCCHFA, in collaboration with the Gulf of Maine Research Institute and the Northeast Fisheries Science Center (NEFSC), on November 22, 2004. Modifications to the initial EFP application were received on February 25, 2005. The EFP would exempt 20 federally permitted commercial fishing vessels from the following requirements in the FMP: NE multispecies closed area restrictions specified at §§ 648.81(a), (b), (d), and (e) for the purpose of providing access to haddock stocks within GB Closed Area (CA) I, GB CA II, Cashes Ledge Closure Area (Cashes), and the Western Gulf of Maine Closure Area (WGOM); and the NE multispecies GOM hook gear restrictions specified at § 648.80(a)(3)(v) and GB hook gear restrictions specified at § 648.80(a)(4)(v), in order to allow fishing for the purposes of tagging viable fish without hook gear restrictions.

Researchers request that the study would be conducted from March 2005 through February 2006. Fishing would take place aboard a maximum of 20 different fishing vessels totaling 30 trips fishing under NE multispecies Category A days-at-sea (DAS). Only the most vigorous haddock caught would be tagged and released to maximize their chance of survival. It is estimated that 250 haddock would be tagged and released each trip. All legal catch not tagged would be landed and sold, consistent with the current daily and trip possession landing limits. NEFSC personnel would accompany researchers on trips and sample the ovaries of landed haddock for fecundity research. The NEFSC fecundity research is not included in the EFP because it would be conducted only on landed catch. NEFSC fecundity research began February 2005, within CA I under a separate scientific research permit (SRP) that also allows haddock tagging in CA I. The EFP would not provide exemptions from the Eastern U.S./Canada Management Area, should this area or portion of this area be closed due to attainment of the U.S./Canada total allowable catches of GB cod, haddock, or yellowtail flounder. Undersized fish would be returned to the sea as quickly as possible. The participating vessels would be required to report all landings in their Vessel Trip Reports.

The goal of this study is to assess haddock movement between stock areas and across closure area boundaries. The proposed project would test existing assumptions about haddock movement rates between the GOM and GB, haddock movement rates between the eastern and western GB regulated areas, and haddock movement rates in and out of the closure areas. Researchers propose to use benthic longline gear consisting of hooks with fabricated baits (Norbait or Trident) that target haddock and reduce cod bycatch. An estimated total of 7,500 Hallmark T-bar tags would be deployed in the closure areas as follows: CA I (53.3 percent of tags); CA II (13.3 percent of tags); WGOM (26.7 percent of tags); and Cashes (6.7 percent of tags). Researchers under this tagging study, would be allowed to catch a maximum of 94,470 lb (42,851 kg) of haddock and 3,149 lb (1,429 kg) of cod within the closure areas. Catch limits would reflect tagging effort in closure areas within GB (62,980 lb (28,568 kg) haddock; 1,575 lb (715 kg) cod) and within the GOM (31,490 lb (14,284 kg) haddock; 1,575 lb (715 kg) cod). A total of 35 percent of haddock caught is estimated to be viable for tagging. Thus, vessels would not be allowed to land more 65 percent of their overall haddock catch from the GB (40,937 lb, 18,569 kg) and GOM (20,469 lb, 9,285 kg) closure areas. If any of the maximum limits (haddock caught, haddock landed, or cod caught) is reached within GB or the GOM, vessels would not be allowed to continue fishing in the corresponding closure areas.

The target fishery is the groundfish mixed-species fishery. The main species expected to be caught under this EFP are haddock and Atlantic cod. Other commercially important fish commonly found in the groundfish mixed-species fishery are expected to be caught incidentally. The incidental catch is expected to be comprised of yellowtail flounder, pollack, American plaice, monkfish, skates, spiny dogfish, white hake, winter flounder, and witch flounder.

The applicant may place requests for minor modifications and extensions to the EFP throughout the year. EFP modifications and extensions may be granted without further notice if they are deemed essential to facilitate completion of the proposed research and result in only a minimal change in the scope or impact of the initially approved EFP request. The applicant has prepared a draft Environmental Assessment (EA) that analyzes the impacts of the proposed experimental fishery on the human environment. The draft EA examines whether the proposed activities are consistent with the goals and objectives of the FMP, whether they would be detrimental to the well-being of any stocks of fish harvested, and whether they would have any significant environmental impacts. The draft EA also examines whether the proposed experimental fishery would be detrimental to essential fish habitat, marine mammals, or protected species. After publication in the Federal Register the EFP may become effective following a 15 day public comment period.

Authority: 16 U.S.C. 1801 et seq.

Dated: March 14, 2005.
Alan D. Risenhoover,
Acting Director, Office of Sustainable Fisheries, National Marine Fisheries Service.

[FR Doc. E5-1162 Filed 3-15-05; 8:45 am]

BILLING CODE 3510-22-S